DEPARTMENT OF HEALTH AND HUMAN SERVICES

National Institute of Health

Center for Scientific Review; Amended Notice of Meeting

Notice is hereby given of a change in the meeting of the Biochemistry and Biophysics of Membranes Study Section, June 16, 2005, 8:30 a.m. to June 17, 2005, 5 p.m., Double Tree Rockville, 1750 Rockville Pike, Rockville, MD, 20852 which was published in the Federal Register on May 11, 2005, 70 FR 24829-24832.

The meeting will be held at the Bethesda Marriott Hotel, 5151 Pooks Hill Road, Bethesda, MD 20814. The meeting dates and time remain the same. The meeting is closed to the public.

Dated: June 15, 2005
Anna Snouffer,
Deputy Director, Office of Federal Advisory Committee Policy.

[FR Doc. 05-12280 Filed 6-21-05; 8:45 am]

BILLING CODE 4140-01-M